ENVIRONMENTAL PROTECTION AGENCY

[FRL-7611-6]

EPA Public Meeting: Market Enhancement Opportunities for Water-Efficient Products; Notice of Public Meeting

AGENCY: Environmental Protection Agency (EPA).

ACTION: Notice.

SUMMARY: The Environmental Protection Agency is hosting a one-day public meeting to discuss market enhancement opportunities for water-efficient products. EPA's goal is to bring together stakeholders from Federal, state and local governments; utilities; manufacturers; building trade associations; consumer groups; and other interested parties to exchange information and views on promoting water-efficient products in the marketplace. The focus of the February meeting will be on landscape irrigation products. The first meeting was held in Washington, DC on October 9, 2003 and the second was held in Austin, TX on January 15, 2004. One additional public meeting will be held in Seattle, WA in March; notice will be provided on a location and time when available.

The meeting will consist of several panel discussions, and is open to the public. The audience will have an opportunity to ask questions and provide comments at the conclusion of the meeting.

DATES: The meeting will begin at 8:30 a.m. on February 17, 2004.

ADDRESSES: The meeting will be held at the Phoenix Center for the Arts, 1202 N. Third St., Phoenix, AZ 85004.

FOR FURTHER INFORMATION CONTACT: For more information on this meeting, please see EPA's Water Efficiency Web Page at http://www.epa.gov/owm/water-efficiency/index.htm. To register online from the Water Efficiency Program page, click on the registration form link. You may also register by contacting ERG, Inc. by phone (781-674-7374), or by downloading the registration form and sending the completed form to ERG via fax at 781-674-2906 or mail to ERG, Conference Registration, 110 Hartwell Avenue, Lexington, MA 02421-3136. Seating is limited, therefore please register or request special accommodations no later than February 10, 2004.

Dated: January 12, 2004.
James A. Hanlon,
Director, Office of Wastewater Management.

[FR Doc. 04-1049 Filed 1-15-04; 8:45 am]

BILLING CODE 6560-50-P